ENVIRONMENTAL PROTECTION AGENCY

[FRL-6881-2]

Clean Water Act Class II: Proposed Consent Agreement and Opportunity To Comment Regarding Jaxon Enterprises, Inc. and Creative Living Partnership Proceeding Under Clean Water Act Section 309(g)(1), (2)(B) and 40 CFR Part 22.13(b)

AGENCY: Environmental Protection Agency (“EPA”).

ACTION: Notice.

SUMMARY: EPA is providing notice of a proposed Consent Agreement for alleged violations of the Clean Water Act (“Act”). EPA is also providing notice of opportunity to comment on the proposed Consent Agreement.

EPA is authorized under section 309(g) of the Act, 33 U.S.C. 1319(g), to assess a civil penalty after providing the person subject to the penalty notice of the proposed penalty and the opportunity for a hearing, and after providing interested persons notice of the proposed penalty and a reasonable opportunity to comment on its issuance. Under section 309(g), any person who without authorization discharges a pollutant to a navigable water, as those terms are defined in section 502 of the Act, 33 U.S.C. 1362, may be assessed a penalty in a “Class II” administrative penalty proceeding.

Class II proceedings under section 309(g) are conducted in accordance with the “Consolidated Rules of Practice Governing the Administrative Assessment of Civil Penalties, Issuance of Compliance or Corrective Action Orders, and the Revocation, Termination or Suspension of Permits,” 40 CFR part 22 (“Consolidated Rules”), published at 64 FR 40138, 40177 (July 23, 1999). The procedures through which the public may submit written comment on a proposed Class II order or participate in a Class II proceeding, and the procedures by which a respondent may request a hearing, are set forth in the Consolidated Rules. The deadline for submitting public comment on a proposed Class II order is thirty (30) days after publication of this notice.

On September 26, 2000, EPA filed with Danielle Carr, Regional Hearing Clerk, U.S. EPA, Region IX, 75 Hawthorne Street, San Francisco, California 94105, (415) 744-1391, the following Consent Agreement:

In the Matter of Jaxon Enterprises and Creative Living, Buena Ventura Boulevard Extension, City of Redding, Shasta County, California, Docket No. CWA-09-99-0005.

For the alleged violations set forth in the Consent Agreement, Respondents agree to pay to the United States a civil penalty of $60,000 (sixty thousand dollars) for violations of NPDES Permit No. CAS000002 (issued by the California State Water Resources Control Board (Order No. 92-08-DWQ)) and section 301(a) of the Act, 33 U.S.C. 1311(a), at the Buena Ventura Boulevard Extension, City of Redding, Shasta County, California.

Procedures by which the public may comment on a proposed Class II penalty or participate in a Class II penalty proceeding are set forth in the Consolidated Rules. The deadline for submitting public comment on a proposed Class II penalty is thirty days after issuance of public notice.

FOR FURTHER INFORMATION CONTACT: Persons wishing to receive a copy of EPA's Consolidated Rules, review the Complaint or other documents filed in this proceeding, comment upon the proposed assessment, or otherwise participate in the proceeding should contact Danielle Carr, Regional Hearing Clerk, U.S. EPA, Region IX, 75 Hawthorne Street, San Francisco, California 94105, (415) 744-1391. The administrative record for this proceeding is located in the EPA Regional Office identified above, and the file will be open for public inspection during normal business hours. All information submitted by Jaxon Enterprises and Creative Living is available as part of the administrative record, subject to provisions of law restricting public disclosure of confidential information. In order to provide opportunity for public comment, EPA will issue no final order assessing a penalty in these proceedings prior to thirty (30) days after the date of publication of this notice.

Dated: September 26, 2000.
Alexis Strauss,
Director, Water Division.

[FR Doc. 00-25601 Filed 10-4-00; 8:45 am]

BILLING CODE 6560-50-U